INTERNATIONAL TRADE COMMISSION

[INVESTIGATION NO. 332-528]

Used Electronic Products: An Examination of U.S. Exports Submission of Questionnaire for OMB Review

AGENCY: United States International Trade Commission.

ACTION: In accordance with the provisions of the Paperwork Reduction Act of 1995 (44 U.S.C. Chapter 35), the U.S. International Trade Commission (Commission) has submitted a request for approval of a questionnaire to the Office of Management and Budget for review. Purpose of Information Collection: The form is for use by the Commission in connection with Investigation No. 332-528, Used Electronic Products: An Examination of U.S. Exports, instituted under the authority of section 332(g) of the Tariff Act of 1930 (19 U.S.C. 1332(g)). This investigation was requested by the United States Trade Representative (USTR). The Commission expects to deliver the results of its investigation to the USTR by February 8, 2013.

Summary of Proposal

(1) Number of forms submitted: 1.

(2) Title of form: Electronic Products Questionnaire.

(3) Type of request: New.

(4) Frequency of use: Industry questionnaire, single data gathering, scheduled for 2012.

(5) Description of respondents: U.S. firms in the used electronics processing industry.

(6) Estimated number of questionnaires to be mailed: 5,500.

(7) Estimated total number of hours to complete the form per respondent: 2.5 hours.

(8) Information obtained from the form that qualifies as confidential business information will be so treated by the Commission and not disclosed in a manner that would reveal the individual operations of a firm.

Additional Information or Comment: Copies of the form and supporting documents may be obtained from project leader Laura Bloodgood (laura.bloodgood@usitc.gov or 202-708-4726) or deputy project leader Andrea Boron (andrea.boron@usitc.gov or 202-205-3433). Comments about the proposal should be directed to the Office of Management and Budget, Office of Information and Regulatory Affairs, Room 10102 (Docket Library), Washington, DC 20503, Attention: Docket Librarian. All comments should be specific, indicating which part of the questionnaire is objectionable, describing the concern in detail, and including specific suggested revision or language changes. Copies of any comments should be provided to Andrew Martin, Chief Information Officer, U.S. International Trade Commission, 500 E Street SW., Washington, DC 20436, who is the Commission's designated Senior Official under the Paperwork Reduction Act.

Persons with mobility impairments who will need special assistance in gaining access to the form and supporting documents should contact the Secretary at 202-205-2000. Hearing impaired individuals are advised that information on this matter can be obtained by contacting our TTD terminal (telephone no. 202-205-1810). Also, general information about the Commission can be obtained from its internet site (http://www.usitc.gov).

By order of the Commission.
Issued: May 11, 2012.
James R. Holbein,
Secretary to the Commission.

[FR Doc. 2012-11894 Filed 5-16-12; 8:45 am]

BILLING CODE 7020-02-P